DEPARTMENT OF COMMERCE

National Oceanic and Atmospheric Administration

50 CFR Part 660

[Docket No. 060824226-6322-02]

RIN 0648-AV69

Magnuson-Stevens Act Provisions; Fisheries Off West Coast States; Pacific Coast Groundfish Fishery; Biennial Specifications and Management Measures; Inseason Adjustments; Correction

AGENCY: National Marine Fisheries Service (NMFS), National Oceanic and Atmospheric Administration (NOAA), Commerce.

ACTION: Final rule; inseason adjustments to groundfish anagement measures; correction.

SUMMARY: This final rule corrects publication errors in the final rule announcing inseason changes to management measures in the commercial Pacific Coast groundfish fishery, which were published in the Federal Register on July 5, 2007, and are effective August 1, 2007. This correction reinstates several trip limits in the limited entry commercial groundfish trawl fishery that were inadvertently omitted in the final rule. These changes ensure that the trip limits, intended to allow fisheries to access more abundant groundfish stocks while protecting overfished and depleted stocks, remain in place.

DATES: Effective 0001 hours (local time) August 1, 2007.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register's Web site at http://www.gpoaccess.gov/fr/index.html. Background information and documents are available at the Pacific Fishery Management Council's (Council's) Web site at http://www.pcouncil.org/.

Background

This correction reinstates several limited entry trawl commercial trip limits that were published in a proposed rule on September 29, 2006 (71 FR 57764) and implemented in a final rule on December 29, 2006 (71 FR 78638). Trip limits are an important management measure used in the Pacific Coast groundfish fishery to allow fisheries to access more abundant groundfish stocks while protecting overfished and depleted stocks. The trip limits that are the subject of this correction are contained in Tables 3 (North) and 3 (South) to part 660 subpart G.

Need for the Correction

Due to a formatting error, these trip limits were inadvertently omitted during the publication of inseason changes on July 5, 2007 (72 FR 36617), which are effective August 1, 2007.

List of Subjects in 50 CFR Part 660

Fisheries and fishing.

Dated: July 31, 2007.
James P. Burgess,
Acting Director, Office of Sustainable Fisheries, National Marine Fisheries Service.

50 CFR part 660 is corrected by making the following correcting amendments:

PART 660—FISHERIES OFF WEST COAST STATES

1. The authority citation for part 660 continues to read as follows:

Authority: 16 U.S.C. 1801 et seq.

2. Tables 3 (North) and 3 (South) to part 660 subpart G are revised to read as follows:

BILLING CODE 3510-22-P

[FR Doc. 07-3811 Filed 7-31-07; 3:13 pm]

BILLING CODE 3510-22-C